DEPARTMENT OF STATE

[Public Notice: 11748]

Revocation of the Designations of Mohad Moalim, Farah Mohamed Shirdon, Musa Abu Dawud, Aliaskhab Kebekov, Ibrahim al-Rubaysh, and Abu al-Wardah as-Syarqi (and Their Respective Aliases) as Specially Designated Global Terrorists

I hereby revoke the designations of the following persons as Specially Designated Global Terrorists, under E.O. 13224: Mohad Moalim, Farah Mohamed Shirdon, Musa Abu Dawud, Aliaskhab Kebekov, Ibrahim al-Rubaysh, and Abu al-Wardah as-Syarqi (and their respective aliases).

This determination shall be published in the Federal Register.

Dated: April 1, 2022.
Antony J. Blinken,
Secretary of State.

[FR Doc. 2022-10825 Filed 5-19-22; 8:45 am]

BILLING CODE 4710-AD-P